DEPARTMENT OF ENERGY

10 CFR Part 852

RIN:1901-AA90

Guidelines for Physicians Panel Determinations on Worker Requests for Assistance in Filing for State Workers' Compensation Benefits

AGENCY: Department of Energy.

ACTION: Notice of proposed rulemaking; rescheduling of public hearing and extension of comment deadline.

SUMMARY: This document announces a new date for the public hearing originally scheduled for September 24, 2001; and extends the time period for submitting comments regarding a notice of proposed rulemaking published in the Federal Register on September 7, 2001 (66 FR 46742).

DATES: Comments must be received on or before November 8, 2001. DOE is requesting 3 copies of the written comments and prepared statements for the public hearing. Oral views, data, and arguments may be presented at the public hearing in Washington, DC, beginning at 9 a.m. on October 10, 2001. DOE must receive requests to speak at the public hearing and a copy of your statements no later than 4 p.m., October 9, 2001.

ADDRESSES: Please submit written comments, oral statements, and requests to speak at the public hearing to: Loretta Young, Office of Advocacy, EH-8, U.S. Department of Energy, 1000 Independence Avenue, SW., Washington, D.C. 20585.

The hearing will begin at 9 a.m., in Room 1E-245 at the U.S. Department of Energy, Forrestal Building, 1000 Independence Avenue, S.W., Washington DC. You can find more information concerning public participation in this rulemaking proceeding in Section IV, “Opportunity for Public Comment,” of the previously published notice of proposed rulemaking (66 FR 46742).

FOR FURTHER INFORMATION CONTACT: Loretta Young, Office of Advocacy, EH-8, U.S. Department of Energy, 1000 Independence Avenue, SW., Washington, DC 20585; (202) 586-2819; fax: 202-586-6010; e-mail: loretta.young@eh.doe.gov.

Issued in Washington, D.C., on September 18, 2001.
Steven Cary,
Acting Assistant Secretary, Environment, Safety and Health.

[FR Doc. 01-23739 Filed 9-20-01; 8:45 am]

BILLING CODE 6450-01-P